DEPARTMENT OF ENERGY

Federal Energy Regulatory Commission

[Project No. 1971-073-ID]

Idaho Power Company; Notice of Application for Amendment of License To Delete Non-Jurisdictional Transmission Facilities, and Soliciting Comments, Motions To Intervene, and Protests

August 27, 2001.

a. Type of Filing: Amendment of license to delete the 23.1-mile-long Paddock-Ontario Transmission Line from the license.

b. Project No.: 1971-073.

c. Date Filed: May 29, 2001.

d. Applicant: Idaho Power Company.

e. Name of Project: Hells Canyon.

f. Location: The project is located on the Snake River, in Baker County, Oregon, and Adams County, Idaho, and the Paddock-Ontario Transmission Line is located in Washington County, Idaho, to near town of Ontario, Oregon.

g. Filed Pursuant to: Federal Power Act 16 U.S.C. 791(a)-825(r), Section 4.201 of the Commission's Regulations.

h. Applicant Contact: Robert W. Stahman, Vice President, Secretary, and General Counsel, Idaho Power Company, 1221 West Idaho St., P.O. Box 70, Boise, ID 83707, (208) 388-2676; and Lee S. Sherline, Leighton and Sherline, 8211 Chivalry Road, Annandale, VA 22003-1337.

i. FERC Contact: William Guey-Lee, (202) 219-2808, or william.gueylee@ferc.fed.us.

j. Deadline and filing comments, motions to intervene or protests: September 27, 2001.

All documents (original and eight copies) should be filed with: David Boergers, Secretary, Federal Energy Regulatory Commission, 888 First Street, NE., Washington, DC 20426. Comments, protests and interventions may be filed electronically via the Internet in lieu of paper. See, 18 CFR 385.2001(a)(1)(iii) and the instructions on the Commission's web site under the “e-Filing” link.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of project: The applicant requests that the license for the Hells Canyon Project No. 1971 be amended to delete the 23.1-mile-long Paddock-Ontario transmission line from the license because it no longer serves as a primary transmission line and would continue to exist even if it were not guaranteed by FERC license.

l. Location of the Filing: A copy of the filing is available for inspection and reproduction at the Commission's Public Reference Room, located at 888 First Street, NE., Room 2A, Washington, DC 20426, or by calling (202) 208-1371. This filing may also be viewed on the web at http://www.ferc.gov using the “RIMS” link, select “Docket#” and follow the instructions (call 202-208-2222 for assistance). A copy is also available for inspection and reproduction at the address in item h above.

m. Individuals desiring to be included on the Commission's mailing list should so indicate by writing to the Secretary of Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Response Documents—Any filings must bear in all capital letters the title “COMMENTS”, “PROTESTS”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If any agency does not file comments within the time specified for filing comments, it will be presumed to have no comments. One copy of an agency's comments must also be sent to the Applicant's representatives.

David P. Boergers,
Secretary.

[FR Doc. 01-21980 Filed 8-30-01; 8:45 am]

BILLING CODE 6717-01-M